DEPARTMENT OF THE INTERIOR

Fish and Wildlife Service

Availability of Final Environmental Impact Statement for the Proposed Issuance of an Incidental Take Permit for High Desert Power Project, Victorville, San Bernardino County, CA

AGENCY: Fish and Wildlife Service, Interior (Lead Agency); Bureau of Land Management, Interior, Air Force, Corps of Engineers, Army (Cooperating Agencies).

ACTION: Notice of availability of a final environmental impact statement.

SUMMARY: This notice advises the public of the availability of the Final Environmental Impact Statement on the application to incidentally take the threatened Desert Tortoise (Gopherus agassizii) and the Mohave ground squirrel (Spermophilis mohavensis), a species listed as threatened by the State of California. The High Desert Power Project Limited Liability Company (Applicant) has applied to the Fish and Wildlife Service (Service) for a 50-year incidental take permit pursuant to section 10(a)(1)(B) of the Endangered Species Act of 1973, as amended (Act). This notice is provided pursuant to section 10 of the Act and National Environmental Policy Act Regulation (40 CFR 1506.6).

DATES: A Record of Decision and permit decision will occur no sooner than 30 days from this notice.

ADDRESSES: Copies of the incidental take permit application materials and Final Environmental Impact Statement are available for review at the following government offices and libraries:

Government Offices—Fish and Wildlife Service, Ventura Field Office, 2493 Portola Road, Suite B, Ventura, California 93003, (805) 644-1766; and the Bureau of Land Management, Barstow Field Office, 2601 Barstow Road, Barstow, California 92311, (760) 252-6000.

Libraries—California State Library, Information and Reference Center, 914 Capital Mall, Room 301, Sacramento, California 95814, (916) 654-0261; San Bernardino County Library, Adelanto Branch, 11744 Bartlett Avenue, Adelanto, California 92301, (760) 246-5661; and the San Bernardino County Library, Victorville Branch, 15011 Circle Drive, Victorville, California 92392, (760) 245-4222.

FOR FURTHER INFORMATION CONTACT: Mr. George Walker, Fish and Wildlife Service Biologist, Barstow, California, at (760) 255-8852.

SUPPLEMENTARY INFORMATION:

Background

Section 9 of the Act and Federal regulation prohibit the “take” of animal species listed as endangered or threatened. That is, no one may harass, harm, pursue, hunt, shoot, wound, kill, trap, capture or collect listed animal species, or attempt to engage in such conduct (16 USC 1538). Under limited circumstances, the Service, however, may issue permits to authorize “incidental take” of listed animal species (defined by the Act as take that is incidental to, and not the purpose of, the carrying out of an otherwise lawful activity). Regulations governing permits for endangered and threatened species, respectively, are at 50 CFR 17.32 and 17.22.

The High Desert Power Project Limited Liability Company seeks an incidental take permit for the threatened desert tortoise, and for the Mohave ground squirrel should it be listed under the Act during the term of the permit. Take of these species would be incidental to the High Desert Power Project. The Applicant proposes to construct, operate and maintain a 680-to 830-megawatt natural gas-fueled electricity generation power plant on a 25-acre site located in the northeast corner of the Southern California Logistics Airport, formerly a part of George Air Force Base, in the City of Victorville, San Bernardino County, California. The Applicant proposes to use an additional 24-acre area for construction staging. The proposed project also includes the construction, operation and maintenance of 7 water injection/extraction wells within the Mojave River watershed; 2 water supply pipelines (one approximately 2.5 miles in length and the other approximately 6.5 miles in length); 2 natural gas supply pipelines (one approximately 3.5 miles in length and the other approximately 32 miles in length); and a 7-mile-long electrical transmission line.

Construction of the Power Project and associated facilities would result in short-term, long-term, and permanent disturbances to desert tortoise and Mohave ground squirrel habitat. The Power Project would disturb approximately 630.2 acres of habitat, with approximately 244.1 acres of short-term disturbance and 386.1 acres of long-term and/or permanent disturbance.

The Applicant proposes to minimize and/or mitigate for impacts associated with the Power Project, in part, by conducting pre-construction surveys of proposed work areas and construction zones, and by developing an employee and contractor education program that would describe allowable practices when constructing in desert tortoise and Mohave ground squirrel habitat area. The Applicant would revegetate habitat disturbed during construction, operation, maintenance, and/or decommissioning activities in accordance with an approved plan. As compensation for impacts to habitat on private land, the Applicant would ensure the protection in perpetuity of 1,242.8 acres of off-site mitigation lands or habitat credits, having habitat value for both desert tortoises and Mohave ground squirrels that is at least as great as the value of the habitat being impacted. The number of compensation acres was developed based on an agency-approved formula which assesses the categories of previous and potential disturbance, the condition and classification of the impacted habitat, and potential impacts to adjacent habitat. To mitigate for impacts to desert tortoise and Mohave ground squirrel associated with construction and operation of this gas pipeline, the Applicant proposes that funding for restoration activities may be provided either in lieu of or in combination with the purchase of compensation lands or habitat credits.

In addition to issuance of an incidental take permit by the Service, High Desert Power Project Limited Liability Company has requested other federal authorizations for the proposed project. The company seeks Nationwide Permit No. 12 authorizations by the Army Corps of Engineers, pursuant to Section 404 of the Clean Water Act, for pipeline crossings of waters of the United States. The company also seeks a right-of-way grant from the Bureau of Land Management pursuant to Section 28 of the Mineral Leasing Act of 1920, to authorize construction, operation and maintenance of the 32-mile natural gas pipeline. The U.S. Air Force has Federal land management authority over the lands located within the former George Air Force Base. The High Desert Power Project Limited Liability Company and Victor Valley Economic Development Authority have jointly requested that the Air Force act to supplement its prior environmental record and to authorize specifically the uses of the former George Air Force Base lands proposed for the High Desert Power Project by way of an addendum to an existing lease agreement between the Air Force and Victor Valley Economic Development Authority. Additionally, the High Desert Power Project Limited Liability Company has requested that the Air Force grant easements authorizing the use of certain Federal lands adjacent to the former George Air Force Base for the construction, operation and maintenance of linear features of the High Desert Power Project.

On December 30, 1998, a notice was published in the Federal Register (63 FR 71940) announcing that the Service would take the lead in preparing an Environmental Impact Statement addressing the Federal actions associated with the High Desert Power Project. The Bureau of Land Management, U.S. Air Force and the Army Corps of Engineers may use this Environmental Impact Statement as the basis for their separate Federal decisions.

The Draft Environmental Impact Statement analyzed the potential environmental impacts that may result from the Federal actions requested in support of the proposed development of the High Desert Power Project, and identified various alternatives, including the No Action Alternative (no incidental take permit), the Combined Cycle Power Plant with Dry Cooling Alternative, and various alternatives proposing the power plant be located in different locations. Several of these alternatives would reduce the amount of habitat disturbance and levels of take of threatened and endangered species compared to the Proposed Project Alternative but would have potentially greater adverse effects on other resources such as air quality, land use, views, and geological hazards. Five comment letters, totaling 16 individual comments, were received on the Draft Environmental Impact Statement. A response to each comment has been included in Final Environmental Impact Statement.

The analysis provided in the Final Environmental Impact Statement is intended to accomplish the following: inform the public of the proposed action; address public comments received on the Draft Environmental Impact Statement; disclose the direct, indirect, and cumulative environmental effects of the proposed actions; and indicate any irreversible commitment of resources that would result from implementation of the proposed action.

Elizabeth H. Stevens,
Deputy Manager, Region 1, California/Nevada Operations Office, Sacramento, California.

[FR Doc. 00-12348 Filed 5-18-00; 8:45 am]

BILLING CODE 4310-55-P